DEPARTMENT OF DEFENSE

GENERAL SERVICES ADMINISTRATION

NATIONAL AERONAUTICS AND SPACE ADMINISTRATION

48 CFR Ch. 1

Semiannual Regulatory Agenda

AGENCIES: Department of Defense (DoD), General Services Administration (GSA), and National Aeronautics and Space Administration (NASA).

ACTION: Semiannual regulatory agenda.

SUMMARY: This agenda provides summary descriptions of regulations being developed by the Civilian Agency Acquisition Council and the Defense Acquisition Regulations Council in compliance with Executive Order 12866 “Regulatory Planning and Review.” This agenda is being published to allow interested persons an opportunity to participate in the rulemaking process.

The Regulatory Secretariat Division has attempted to list all regulations pending at the time of publication, except for minor and routine or repetitive actions; however, unanticipated requirements may result in the issuance of regulations that are not included in this agenda. There is no legal significance to the omission of an item from this listing. Also, the dates shown for the steps of each action are estimated and are not commitments to act on or by the dates shown.

Published proposed rules may be reviewed in their entirety at the Government's rulemaking Web site at http://www.regulations.gov.

FOR FURTHER INFORMATION CONTACT: Hada Flowers, Director, Regulatory Secretariat Division, Room 783E, 1275 First Street NE., Washington, DC 20417, (202) 501-4755.

SUPPLEMENTARY INFORMATION: DoD, GSA, and NASA, under their several statutory authorities, jointly issue and maintain the FAR through periodic issuance of changes published in the Federal Register and produced electronically as Federal Acquisition Circulars (FACs).

The electronic version of the FAR, including changes, can be accessed on the FAR Web site at http://www.acquisition.gov/far.

Dated: April 30, 2013.
Steven Kempf,
Acting Director, Office of Acquisition Policy and Senior Procurement Executive.

DOD/GSA/NASA (FAR)—Proposed Rule Stage
Sequence No. | Title | Regulation Identifier No.
273 | Federal Acquisition Regulation (FAR); FAR Case 2012-028; Contractor Comment Period-Past Performance Evaluations | 9000-AM40
274 | Federal Acquisition Regulation (FAR); FAR Case 2012-001; Performance of Inherently Governmental Functions and Critical Functions | 9000-AM41
275 | Federal Acquisition Regulation (FAR); FAR Case 2012-029; Contractor Access to Protected Information | 9000-AM42
276 | Federal Acquisition Regulation (FAR); FAR Case 2011-023, Irrevocable Letters of Credit | 9000-AM53
277 | Federal Acquisition Regulation; FAR Case 2012-023, Uniform Procurement Identification | 9000-AM60

DOD/GSA/NASA (FAR)—Final Rule Stage
Sequence No. | Title | Regulation Identifier No.
278 | Federal Acquisition Regulation (FAR); FAR Case 2011-001; Organizational Conflicts of Interest | 9000-AL82
279 | Federal Acquisition Regulation (FAR); FAR Case 2010-013, Privacy Training | 9000-AM02
280 | Federal Acquisition Regulation (FAR); FAR Case 2010-010; Service Contracts Reporting Requirements | 9000-AM06
281 | FAR Case 2011-024, Set-Asides for Small Business | 9000-AM12
282 | Federal Acquisition Regulation (FAR); FAR Case 2011-020; Basic Safeguarding of Contractor Information Systems | 9000-AM19
283 | Federal Acquisition Regulation (FAR); FAR Case 2011-029; Contractors Performing Private Security Functions Outside the United States | 9000-AM20
284 | Federal Acquisition Regulation (FAR); FAR Case 2012-031; Accelerated Payments to Small Business Subcontractors | 9000-AM37
285 | Federal Acquisition Regulation (FAR); FAR Case 2013-005, Terms of Service and Open-Ended Indemnification, and Unenforceability of Unauthorized Obligations | 9000-AM45
286 | Federal Acquisition Regulation (FAR); FAR Case 2012-014; Small Business Protests and Appeals | 9000-AM46
287 | Federal Acquisition Regulation (FAR); FAR Case 2013-003; Definition of Contingency Operation | 9000-AM48
288 | Federal Acquisition Regulation (FAR); FAR Case 2012-024; Commercial and Government Entity Code | 9000-AM49
289 | Federal Acquisition Regulation (FAR); FAR Case 2012-016; Defense Base Act | 9000-AM50

DOD/GSA/NASA (FAR)—Completed Actions
Sequence No. | Title | Regulation Identifier No.
290 | Federal Acquisition Regulation (FAR); FAR Case 2011-011; Unallowability of Costs Associated With Foreign Contractor Excise Tax | 9000-AM13
291 | Federal Acquisition Regulation (FAR); FAR Case 2011-028; Nondisplacement of Qualified Workers Under Service Contracts | 9000-AM21
292 | Federal Acquisition Regulation (FAR); FAR Case 2011-025; Changes to Time-and-Materials and Labor-Hour Contracts and Orders | 9000-AM28
293 | Federal Acquisition Regulation (FAR); FAR Case 2012-027, Free Trade Agreement-Panama | 9000-AM43

DEPARTMENT OF DEFENSE/GENERAL SERVICES ADMINISTRATION/NATIONAL AERONAUTICS AND SPACE ADMINISTRATION (FAR)

Proposed Rule Stage

273. Federal Acquisition Regulation (FAR); FAR Case 2012-028; Contractor Comment Period-Past Performance Evaluations

Legal Authority: 40 U.S.C. 121(c); 10 U.S.C. ch 137; 51 U.S.C. 20113

Abstract: DoD, GSA, and NASA are proposing to revise the Federal Acquisition Regulation (FAR) to implement section 806(c) of the National Defense Authorization Act for Fiscal Year 2012 (Pub. L. 112-81). Section 806, paragraph (c) allows contractors 14 calendar days to rebut past performance evaluations and requires that past performance evaluations be included in the relevant database within 14 days. While the requirements of section 806(c) are mandatory only for the Department of Defense, the Governmentwide application of the statue will ensure that the Government has current performance information about contractors to help source selection officials make better award decisions. This case is included in the FAR retrospective review of existing regulations under Executive Order 13563. Additional information is located in the FAR final plan (2013), available at: https://www.acquisition.gov/.

Timetable:

Action | Date | FR Cite
NPRM | 07/00/13 |

Regulatory Flexibility Analysis Required: Yes.

Agency Contact: Curtis Glover, DOD/GSA/NASA (FAR), 1275 First Street NE., Washington, DC 20417, Phone: 202 501-1448, Email: curtis.glover@gsa.gov.

RIN: 9000-AM40

274. Federal Acquisition Regulation (FAR); FAR Case 2012-001; Performance of Inherently Governmental Functions and Critical Functions

Legal Authority: 40 U.S.C. 121(c); 10 U.S.C. ch 137; 51 U.S.C. 20113

Abstract: DoD, GSA, and NASA are proposing to revise the Federal Acquisition Regulation to implement acquisition-related requirements of the Office of Federal Procurement Policy (OFPP) Policy Letter 11-01, entitled “Performance of Inherently Governmental and Critical Functions,” published September 12, 2011 (65 FR 56227), with a correction published February 13, 2012 (77 FR 7609). OFPP Policy Letter 11-01 was issued in response to (1) the Presidential Memorandum on Government Contracting, signed March 4, 2009, and published March 6, 2009 (74 FR 9755), and (2) section 321 of the Duncan Hunter National Defense Authorization Act (NDAA) for Fiscal Year (FY) 2009 (Pub. L. 110-417).

Timetable:

Action | Date | FR Cite
NPRM | 10/00/13 |

Regulatory Flexibility Analysis Required: Yes.

Agency Contact: Patricia Corrigan, Procurement Analyst, DOD/GSA/NASA (FAR), 1275 First Street NE., Washington, DC 20714, Phone: 202 208-1963, Email: patricia.corrigan@gsa.gov.

RIN: 9000-AM41

275. Federal Acquisition Regulation (FAR); FAR Case 2012-029; Contractor Access to Protected Information

Legal Authority: 40 U.S.C. 121(c); 10 U.S.C. ch 137; 51 U.S.C. 20113

Abstract: DoD, GSA, and NASA are proposing to amend the Federal Acquisition Regulation (FAR) to address contractor access to protected information. On April 26, 2011, DoD, GSA, and NASA proposed amending the Federal Acquisition Regulation (FAR) to provide additional coverage regarding contractor access to nonpublic information (76 FR 23236), with an extension for public comment published June 29, 2011 (76 FR 38089). The first proposed rule was combined with proposed revised regulatory coverage on organizational conflicts of interest (FAR Case 2011-001). DoD, GSA, and NASA are proposing substantial changes to the proposed coverage based on the public comments received. Therefore, DoD, GSA, and NASA decided to separate this coverage from the organizational conflicts of interest rule in order to publish for additional public comments.

The coverage provided in this proposed rule differs from the coverage provided in the first proposed rule in a number of important respects. This case is included in the FAR retrospective review of existing regulations under Executive Order 13563. Additional information is located in the FAR final plan (2012), available at: https://www.acquisition.gov.

Timetable:

Action | Date | FR Cite
NPRM | 09/00/13 |

Regulatory Flexibility Analysis Required: Yes.

Agency Contact: Marissa Petrusek, Procurement Analyst, DOD/GSA/NASA (FAR), 1275 First Street NE., Washington, DC 20714, Phone: 202 501-0136, Email: marissa.petrusek@gsa.gov.

RIN: 9000-AM42

276. • Federal Acquisition Regulation (FAR); FAR Case 2011-023, Irrevocable Letters of Credit

Legal Authority: 40 U.S.C. 121(c); 10 U.S.C. ch 137; 51 U.S.C. 20113

Abstract: DoD, GSA, and NASA are proposing to amend the Federal Acquisition Regulation to remove all references to Office of Federal Procurement Policy Pamphlet No. 7, Use of Irrevocable Letters of Credit, and also provide updated sources of data required to verify the credit worthiness of a financial entity issuing or confirming an irrevocable letter of credit.

Timetable:

Action | Date | FR Cite
NPRM | 05/07/13 | 78 FR 26573
NPRM Comment Period End | 07/08/13 |
Final Action | 12/00/13 |

Regulatory Flexibility Analysis Required: Yes.

Agency Contact: Cecelia Davis, Program Analyst, DOD/GSA/NASA (FAR), 1275 First Street NE., Washington, DC 20417, Phone: 202 219-0202, Email: cecelia.davis@gsa.gov.

RIN: 9000-AM53

277. • Federal Acquisition Regulation; FAR Case 2012-023, Uniform Procurement Identification

Legal Authority: 40 U.S.C. 121(c); 10 U.S.C. chapter 137; 51 U.S.C. 20113

Abstract: DoD, GSA, and NASA are proposing to amend the Federal Acquisition Regulation (FAR) to implement a uniform Procurement Instrument Identification numbering system, which will require the use of Activity Address Codes as the unique identifier for contracting offices and other offices, in order to standardize procurement transactions across the Federal Government. This proposed rule continues and strengthens efforts at standardization accomplished under a previous FAR case.

Timetable:

Action | Date | FR Cite
NPRM | 06/06/13 | 78 FR 34020
NPRM Comment Period End | 08/05/13 |
Final Rule | 12/00/13 |

Regulatory Flexibility Analysis Required: Yes.

Agency Contact: Edward Loeb, Program Manager, DOD/GSA/NASA (FAR), 1275 First Street NE., Washington, DC 20417, Phone: 202 501-0650, Email: edward.loeb@gsa.gov.

RIN: 9000-AM60

DEPARTMENT OF DEFENSE/GENERAL SERVICES ADMINISTRATION/NATIONAL AERONAUTICS AND SPACE ADMINISTRATION (FAR)

Final Rule Stage

278. Federal Acquisition Regulation (FAR); FAR Case 2011-001; Organizational Conflicts of Interest

Legal Authority: 40 U.S.C. 121(c); 10 U.S.C. ch 137; 51 U.S.C. 20113

Abstract: DoD, GSA, and NASA are proposing to amend the Federal Acquisition Regulation (FAR) to provide revised regulatory coverage on organizational conflicts of interest (OCIs), and add related provisions and clauses. Coverage on contractor access to protected information has been moved to a new proposed rule, FAR Case 2012-029.

Section 841 of the Duncan Hunter National Defense Authorization Act for Fiscal Year 2009 (Pub. L. 110-417) required a review of the FAR coverage on OCIs. This proposed rule was developed as a result of a review conducted in accordance with section 841 by the Civilian Agency Acquisition Council and the Defense Acquisition Regulations Council and the Office of Federal Procurement Policy, in consultation with the Office of Government Ethics. This proposed rule was preceded by an Advance Notice of Proposed Rulemaking, under FAR Case 2007-018 (73 FR 15962), to gather comments from the public with regard to whether and how to improve the FAR coverage on OCIs. This case is included in the FAR retrospective review of existing regulations under Executive Order 13563. Additional information is located in the FAR final plan (2013), available at: https://www.acquisition.gov/.

Timetable:

Action | Date | FR Cite
NPRM | 04/26/11 | 76 FR 23236
NPRM Comment Period End | 06/27/11 |
NPRM Comment Period Extended | 06/29/11 | 76 FR 38089
Comment Period End | 07/27/11 |
Final Rule | 11/00/13 |

Regulatory Flexibility Analysis Required: Yes.

Agency Contact: Deborah Erwin, Attorney-Advisor in the Office of Governmentwide Policy, DOD/GSA/NASA (FAR), 1275 First Street NE., Washington, DC 20714, Phone: 202 501-2164, Email: deborah.erwin@gsa.gov.

RIN: 9000-AL82

279. Federal Acquisition Regulation (FAR); FAR Case 2010-013, Privacy Training

Legal Authority: 40 U.S.C. 121(c); 10 U.S.C. ch 137; 51 U.S.C. 20113

Abstract: DoD, GSA, and NASA are proposing to amend the Federal Acquisition Regulation (FAR) to ensure that all contractors are required to complete training in the protection of privacy and the handling and safeguarding of Personally Identifiable Information (PII). A number of agencies currently require that contractors who handle personally identifiable information or operate a system of records on behalf of the Federal Government complete agency-provided privacy training. However, in some circumstances an agency may provide a contractor the Privacy Act requirements, and the contractor will train its own employees, and shall upon request, provide evidence of privacy training for all applicable employees. The proposed FAR language provides flexibility for agencies to conduct the privacy training or require the contractor to conduct the privacy training.

Timetable:

Action | Date | FR Cite
NPRM | 10/14/11 | 76 FR 63896
NPRM Comment Period End | 12/13/11 |
Final Rule | 12/00/13 |

Regulatory Flexibility Analysis Required: Yes.

Agency Contact: Karlos Morgan, Procurement Analyst, DOD/GSA/NASA (FAR), 1275 First Street NE., Washington, DC 20417, Phone: 202 501-2364, Email: karlos.morgan@gsa.gov.

RIN: 9000-AM02

280. Federal Acquisition Regulation (FAR); FAR Case 2010-010; Service Contracts Reporting Requirements

Legal Authority: 40 U.S.C. 121(c); 10 U.S.C. ch 137; 51 U.S.C. 20113

Abstract: DoD, GSA, and NASA are issuing a final rule amending the Federal Acquisition Regulation (FAR) to implement a section of the Consolidated Appropriations Act, 2010. This final rule amends the FAR to require service contractors for executive agencies, except where DoD has fully funded the contract or order, to submit information annually in support of agency-level inventories for service contracts.

Timetable:

Action | Date | FR Cite
Proposed Rule | 04/20/11 | 76 FR 22070
NPRM Comment Period End | 06/20/11 |
Correction | 05/02/11 | 76 FR 24443
Final Rule | 09/00/13 |

Regulatory Flexibility Analysis Required: Yes.

Agency Contact: Edward Loeb, Program Manager, DOD/GSA/NASA (FAR), 1275 First Street NE., Washington, DC 20417, Phone: 202 501-0650, Email: edward.loeb@gsa.gov

RIN: 9000-AM06

281. FAR Case 2011-024, Set-Asides for Small Business

Legal Authority: 40 U.S.C. 121(c); 10 U.S.C. ch 137; 51 U.S.C. 20113

Abstract: DoD, GSA, and NASA issued an interim rule amending the Federal Acquisition Regulation to implement section 1331 of the Small Business Jobs Act of 2010 (Jobs Act). Section 1331 addresses set-asides of task and delivery orders under multiple-award contracts, partial set-asides under multiple-award contracts, and the reserving of one or more multiple-award contracts that are awarded using full and open competition. Within this same context, section 1331 also addresses the Federal Supply Schedules Program managed by the General Services Administration. DoD, GSA, and NASA are coordinating with the Small Business Administration (SBA) on the development of an SBA rule that will provide greater detail regarding implementation of section 1331 authorities. This case is included in the FAR retrospective review of existing regulations under Executive Order 13563. Additional information is located in the FAR final plan (2013), available at: https://www.acquisition.gov/.

Timetable:

Action | Date | FR Cite
Interim Final Rule | 11/02/11 | 76 FR 68032
Interim Final Rule Comment Period End | 01/03/12 |
Interim Final Rule Comment Period Extended | 01/12/12 | 77 FR 1889
Interim Final Rule Comment Period Extended End | 02/03/12 |
Final Rule | 09/00/13 |

Regulatory Flexibility Analysis Required: Yes.

Agency Contact: Karlos Morgan, Procurement Analyst, DOD/GSA/NASA (FAR), 1275 First Street NE., Washington, DC 20417, Phone: 202 501-2364, Email: karlos.morgan@gsa.gov.

RIN: 9000-AM12

282. Federal Acquisition Regulation (FAR); FAR Case 2011-020; Basic Safeguarding of Contractor Information Systems

Legal Authority: 40 U.S.C. 121(c); 10 U.S.C. ch 137; 51 U.S.C. 20113

Abstract: DoD, GSA, and NASA are proposing to amend the Federal Acquisition Regulation to add a new subpart and contract clause for the safeguarding of contractor information systems that contain information provided by the Government (other than public information) or generated for the Government that will be resident on or transiting through contractor information systems.

Timetable:

Action | Date | FR Cite
NPRM | 07/26/12 | 77 FR 51496
NPRM Comment Period End | 10/23/12 |
Final Rule | 10/00/13 |

Regulatory Flexibility Analysis Required: Yes.

Agency Contact: Patricia Corrigan, Procurement Analyst, DOD/GSA/NASA (FAR), 1275 First Street NE., Washington, DC 20714, Phone: 202 208-1963, Email: patricia.corrigan@gsa.gov.

RIN: 9000-AM19

283. Federal Acquisition Regulation (FAR); FAR Case 2011-029; Contractors Performing Private Security Functions Outside the United States

Legal Authority: 40 U.S.C. 121(c); 10 U.S.C. ch 137; 51 U.S.C. 20113

Abstract: DoD, GSA, and NASA are proposing to amend the Federal Acquisition Regulation to implement Governmentwide requirements in National Defense Authorization Acts that establish minimum processes and requirements for the selection, accountability, training, equipping, and conduct of personnel performing private security functions outside the United States.

Timetable:

Action | Date | FR Cite
NPRM | 07/23/12 | 77 FR 43039
NPRM Comment Period End | 09/21/12 |
Final Rule | 06/21/13 | 78 FR 37670
Final Rule Effective | 07/22/13 |

Regulatory Flexibility Analysis Required: Yes.

Agency Contact: Michael O Jackson, Procurement Analyst, DOD/GSA/NASA (FAR), 1275 First Street NE., Washington, DC 20417, Phone: 202 208-4949, Email: michaelo.jackson@gsa.gov.

RIN: 9000-AM20

284. Federal Acquisition Regulation (FAR); FAR Case 2012-031; Accelerated Payments to Small Business Subcontractors

Legal Authority: 40 U.S.C. 121(c); 10 U.S.C. ch 137; 51 U.S.C. 20113

Abstract: DoD, GSA, and NASA are proposing to amend the Federal Acquisition Regulation (FAR) to implement the temporary policy provided by Office of Management and Budget (OMB) Policy Memorandum M-12-16, dated July 11, 2012, by adding a new clause to provide for the accelerated payments to small business subcontractors. This case is included in the FAR retrospective review of existing regulations under Executive Order 13563. Additional information is located in the FAR final plan (2013), available at: https://www.acquisition.gov/.

Timetable:

Action | Date | FR Cite
NPRM | 12/19/12 | 77 FR 75089
NPRM Comment Period End | 02/19/13 |
Final Rule | 09/00/13 |

Regulatory Flexibility Analysis Required: Yes.

Agency Contact: Edward Chambers, Procurement Analyst, DOD/GSA/NASA (FAR), 1275 First Street NE., Washington, DC 20417, Phone: 202 501-3221, Email: edward.chambers@gsa.gov.

RIN: 9000-AM37

285. • Federal Acquisition Regulation (FAR); FAR Case 2013-005, Terms of Service and Open-Ended Indemnification, and Unenforceability of Unauthorized Obligations

Legal Authority: 40 U.S.C. 121(c); 10 U.S.C. ch 137; 51 U.S.C. 20113

Abstract: DoD, GSA, and NASA are issuing an interim rule amending the Federal Acquisition Regulation to address concerns raised in an opinion from the U.S. Department of Justice Office of Legal Counsel involving the use of unrestricted, open-ended indemnification clauses in acquisitions for social media applications. See March 27, 2012, Memorandum for Barbara S. Fredericks, Assistant General Counsel for Administration, United States Department of Commerce, available at http://www.justice.gov/olc/2012/aag-ada-impls-of-consent-by-govt-empls.pdf.

Timetable:

Action | Date | FR Cite
Interim Final Rule. | 06/21/13 | 78 FR 37686
Interim Final Rule Comment Period End | 08/20/13 |
Final Rule | 12/00/13 |

Regulatory Flexibility Analysis Required: Yes.

Agency Contact: Marissa Petrusek, Procurement Analyst, DOD/GSA/NASA (FAR), 1275 First Street NE., Washington, DC 20714, Phone: 202 501-0136, Email: marissa.petrusek@gsa.gov.

RIN: 9000-AM45

286. • Federal Acquisition Regulation (FAR); Far Case 2012-014; Small Business Protests and Appeals

Legal Authority: 40 U.S.C. 121(c); 10 U.S.C. ch 137; 51 U.S.C. 20113

Abstract: DoD, GSA, and NASA are proposing to amend the Federal Acquisition Regulation (FAR) to implement the Small Business Administration's revision of the small business size and small business status protest and appeal procedures.

Timetable:

Action | Date | FR Cite
NPRM | 03/07/13 | 78 FR 14746
NPRM Comment Period End | 05/06/13 |
Final Rule | 10/00/13 |

Regulatory Flexibility Analysis Required: Yes.

Agency Contact: Karlos Morgan, Procurement Analyst, DOD/GSA/NASA (FAR), 1275 First Street NE., Washington, DC 20417, Phone: 202 501-2364, Email: karlos.morgan@gsa.gov.

RIN: 9000-AM46

287. • Federal Acquisition Regulation (FAR); Far Case 2013-003; Definition of Contingency Operation

Legal Authority: 40 U.S.C. 121(c); 10 U.S.C. ch 137; 51 U.S.C. 20115

Abstract: DoD, GSA, and NASA issued an interim rule amending the Federal Acquisition Regulation (FAR) to revise the definition of “contingency operation” to address the statutory change to the definition made by the National Defense Authorization Act for Fiscal Year 2012.

Timetable:

Action | Date | FR Cite
Interim Final Rule | 02/28/13 | 78 FR 13765
Interim Final Rule Comment Period End | 04/29/13 |
Final Rule | 10/00/13 |

Regulatory Flexibility Analysis Required: Yes.

Agency Contact: Patricia Corrigan, Procurement Analyst, DOD/GSA/NASA (FAR), 1275 First Street NE., Washington, DC 20714, Phone: 202 208-1963, Email: patricia.corrigan@gsa.gov.

RIN: 9000-AM48

288. • Federal Acquisition Regulation (FAR); Far Case 2012-024; Commercial and Government Entity Code

Legal Authority: 40 U.S.C. 121(c); 10 U.S.C. ch 137; 51 U.S.C. 20113

Abstract: DoD, GSA, and NASA are proposing to amend the Federal Acquisition Regulation (FAR) to require the use of Commercial and Government Entity (CAGE) codes, including North Atlantic Treaty Organization (NATO) CAGE (NCAGE) codes for foreign entities, for awards valued at greater than the micro-purchase threshold. The CAGE code is a five-character identification number used extensively within the Federal Government. The proposed rule will also require offerors, if owned or controlled by another business entity, to identify that entity during System For Award Management registration.

Timetable:

Action | Date | FR Cite
NPRM | 04/18/13 | 78 FR 23194
NPRM Comment Period End | 06/17/13 |
Final Rule | 01/00/14 |

Regulatory Flexibility Analysis Required: Yes.

Agency Contact: Edward Loeb, Program Manager, DOD/GSA/NASA (FAR), 1275 First Street NE., Washington, DC 20417, Phone: 202 501-0650, Email: edward.loeb@gsa.gov.

RIN: 9000-AM49

289. • Federal Acquisition Regulation (FAR); Far Case 2012-016; Defense Base Act

Legal Authority: 40 U.S.C. 121(c); 10 U.S.C. ch 137; 51 U.S.C. 20113

Abstract: DoD, GSA, and NASA are proposing to amend the Federal Acquisition Regulation to clarify contractor and subcontractor responsibilities to obtain workers' compensation insurance or to qualify as a self-insurer, and other requirements, under the terms of the Longshore and Harbor Workers' Compensation Act as extended by the Defense Base Act.

Timetable:

Action | Date | FR Cite
NPRM | 03/20/13 | 78 FR 17176
NPRM Comment Period End | 05/20/13 |
Final Rule | 11/00/13 |

Regulatory Flexibility Analysis Required: Yes.

Agency Contact: Edward Chambers, Procurement Analyst, DOD/GSA/NASA (FAR), 1275 First Street NE., Washington, DC 20417, Phone: 202 501-3221, Email: edward.chambers@gsa.gov.

RIN: 9000-AM50

DEPARTMENT OF DEFENSE/GENERAL SERVICES ADMINISTRATION/NATIONAL AERONAUTICS AND SPACE ADMINISTRATION (FAR)

Completed Actions

290. Federal Acquisition Regulation (FAR); Far Case 2011-011; Unallowability of Costs Associated with Foreign Contractor Excise Tax

Legal Authority: 40 U.S.C. 121(c); 10 U.S.C. ch 137; 51 U.S.C. 20113

Abstract: DoD, GSA and NASA are proposing to amend the Federal Acquisition Regulation to implement the requirements of the James Zadroga 9/11 Health and Compensation Act of 2010 regarding the imposition of a 2 percent tax on certain foreign procurements.

Completed:

Reason | Date | FR Cite
Final Rule | 01/29/13 | 78 FR 6189
Final Rule Effective | 02/28/13 |

Regulatory Flexibility Analysis Required: Yes.

Agency Contact: Edward Chambers, Phone: 202 501-3221, Email: edward.chambers@gsa.gov.

RIN: 9000-AM13

291. Federal Acquisition Regulation (FAR); Far Case 2011-028; Nondisplacement of Qualified Workers Under Service Contracts

Legal Authority: 40 U.S.C. 121(c); 10 U.S.C. ch 137; 51 U.S.C. 20113

Abstract: DoD, GSA, and NASA amended the Federal Acquisition Regulation to implement an Executive order for nondisplacement of qualified workers under service contracts, as implemented in Department of Labor regulations.

Completed:

Reason | Date | FR Cite
Final Rule | 12/21/12 | 77 FR 75766
Final Rule Effective | 01/18/13 |

Regulatory Flexibility Analysis Required: Yes.

Agency Contact: Edward Loeb, Phone: 202 501-0650, Email: edward.loeb@gsa.gov.

RIN: 9000-AM21

292. Federal Acquisition Regulation (FAR); Far Case 2011-025; Changes to Time-and-Materials and Labor-Hour Contracts and Orders

Legal Authority: 40 U.S.C. 121(c); 10 U.S.C. ch 137; 51 U.S.C. 20113

Abstract: DoD, GSA, and NASA are proposing to amend the Federal Acquisition Regulation (FAR) to provide additional guidance when raising the ceiling price or otherwise changing the scope of work for a time-and-materials or labor-hour contract or order.

Completed:

Reason | Date | FR Cite
Final Rule | 02/28/13 | 78 FR 13766
Final Rule Effective | 04/01/13 |

Regulatory Flexibility Analysis Required: Yes.

Agency Contact: Michael O Jackson, Phone: 202 208-4949, Email: michaelo.jackson@gsa.gov.

RIN: 9000-AM28

293. Federal Acquisition Regulation (FAR); Far Case 2012-027, Free Trade Agreement—Panama

Legal Authority: 40 U.S.C. 121(c); 10 U.S.C. ch 137; 51 U.S.C. 20113

Abstract: DoD, GSA, and NASA are issuing a final rule amending the Federal Acquisition Regulation (FAR) to implement the United States-Panama Trade Promotion Agreement. This Trade Promotion Agreement is a free trade agreement that provides for mutually non-discriminatory treatment of eligible products and services from Panama.

Completed:

Reason | Date | FR Cite
Interim Final Rule | 11/20/12 | 77 FR 69723
Interim Final Rule Comment Period End | 01/22/13 |
Final Rule | 06/21/13 | 78 FR 37695
Final Rule Effective | 06/21/13 |

Regulatory Flexibility Analysis Required: No.

Agency Contact: Cecelia Davis, Phone: 202 219-0202, Email: cecelia.davis@gsa.gov.

RIN: 9000-AM43

[FR Doc. 2013-17074 Filed 7-22-13; 8:45 am]

BILLING CODE 6820-EP-P